DEPARTMENT OF COMMERCE

International Trade Administration

[A-533-820, A-560-812, A-570-865, A-583-835, A-549-817, A-823-811]

Certain Hot-Rolled Carbon Steel Flat Products From India, Indonesia, the People's Republic of China, Taiwan, Thailand, and Ukraine; Final Results of the Expedited Second Sunset Reviews of the Antidumping Duty Orders

AGENCY: Import Administration, International Trade Administration, Department of Commerce.

SUMMARY: On November 5, 2012, the Department of Commerce (the Department) initiated the second sunset reviews of the antidumping duty orders on certain hot-rolled carbon steel flat products from India, Indonesia, the People's Republic of China (PRC), Taiwan, Thailand, and Ukraine. The Department finds that revocation of these antidumping duty orders would be likely to lead to continuation or recurrence of dumping at the margins identified in the “Final Results of Sunset Reviews” section of this notice.

DATES: Effective March 12, 2013.

FOR FURTHER INFORMATION CONTACT: Deborah Scott or Robert James, AD/CVD Operations, Office 7, Import Administration, International Trade Administration, U.S. Department of Commerce, 14th Street and Constitution Avenue NW., Washington, DC 20230; telephone: (202) 482-2657 or (202) 482-0649, respectively.

SUPPLEMENTARY INFORMATION:

Background

On November 5, 2012, the Department initiated the second sunset reviews of the antidumping duty orders on certain hot-rolled carbon steel flat products from India, Indonesia, the PRC, Taiwan, Thailand, and Ukraine, pursuant to section 751(c) of the Tariff Act of 1930, as amended (the Act). See Initiation of Five-Year (“Sunset”) Review, 77 FR 66439 (November 5, 2012). The Department received a notice of intent to participate from the following domestic interested parties: ArcelorMittal USA, LLC, Gallatin Steel, Nucor Corporation, SSAB Americas, Steel Dynamics, Inc., and United States Steel Corporation, within the deadline specified in 19 CFR 351.218(d)(1)(i). Each of these parties claimed interested party status under section 771(9)(C) of the Act as a manufacturer, producer, or wholesaler in the United States of a domestic like product.

On December 5, 2012, the Department received adequate substantive responses from the domestic interested parties identified above within the deadline specified in 19 CFR 351.218(d)(3)(i). The Department received no responses from respondent interested parties with respect to any of the antidumping duty orders covered by these sunset reviews. As a result, pursuant to section 751(c)(3)(B) of the Act and 19 CFR 351.218(e)(1)(ii)(C)(2), the Department has conducted expedited (120-day) sunset reviews of the antidumping duty orders on certain hot-rolled carbon steel flat products from India, Indonesia, the PRC, Taiwan, Thailand, and Ukraine.

Scope of the Orders

The products covered by the antidumping duty orders are certain hot-rolled carbon steel flat products of a rectangular shape, of a width of 0.5 inch or greater, neither clad, plated, nor coated with metal and whether or not painted, varnished, or coated with plastics or other non-metallic substances, in coils (whether or not in successively superimposed layers), regardless of thickness, and in straight lengths of a thickness of less than 4.75 mm and of a width measuring at least 10 times the thickness. The full scope language of each of the antidumping duty orders is listed in the Issues and Decision Memorandum from Christian Marsh, Deputy Assistant Secretary for Antidumping and Countervailing Duty Operations, to Paul Piquado, Assistant Secretary for Import Administration, dated March 5, 2013 (Issues and Decision Memorandum), which is hereby adopted by this notice. The merchandise is currently classified under the item numbers of the Harmonized Tariff Schedule of the United States (HTSUS) listed in the scope of each order. Although the HTSUS item numbers are provided for convenience and customs purposes, the written descriptions of the scope of the antidumping duty orders remain dispositive.

Analysis of Comments Received

All issues raised in these sunset reviews are addressed in the Issues and Decision Memorandum. The issues discussed in the Issues and Decision Memorandum are the likelihood of continuation or recurrence of dumping and the magnitude of the dumping margins likely to prevail if the orders were revoked. Parties can find a complete discussion of these issues and the corresponding recommendations in this public document, which is on file electronically via Import Administration's Antidumping and Countervailing Duty Centralized Electronic Service System (IA ACCESS). IA ACCESS is available to registered users at http://iaaccess.trade.gov and in the Central Records Unit (CRU) in Room 7046 of the main Department of Commerce building. In addition, a complete version of the Issues and Decision Memorandum can be accessed directly on the internet at http://www.trade.gov/ia/. The signed Issues and Decision Memorandum and the electronic versions of the Issues and Decision Memorandum are identical in content.

Final Results of Sunset Reviews

Pursuant to sections 752(c)(1) and (3) of the Act, we determine that revocation of the antidumping duty orders on certain hot-rolled carbon steel flat products from India, Indonesia, the PRC, Taiwan, Thailand, and Ukraine would be likely to lead to continuation or recurrence of dumping at the following weighted-average percent margins:

Country | Manufacturer/producer/exporter | Weighted- average dumping margin (percent)
India | Ispat Industries Ltd | 44.40
| Essar Steel Ltd | 36.53
| All Others | 38.72
Indonesia | Krakatau Steel Corporation | 47.86
| All Others | 47.86
PRC | Angang Group International Trade Co. Ltd., New Iron & Steel Co., Ltd., and Angang Group Hong Kong Co., Ltd | 31.09
| Shanghai Baosteel Group Corporation, Baoshan Iron & Steel Co., Ltd, and Baosteel Group International Trade Corporation | 12.34
| Benxi Iron & Steel Group International Economic & Trade Co., Ltd., Bengang Steel Plates Co., Ltd., and Benxi Iron & Steel Group Co., Ltd | 57.19
| Panzhihua Iron and Steel (Group) Co | 65.59
| Wuhan Iron and Steel Group Corporation | 65.59
| PRC-Wide Rate | 90.83
Taiwan | An Feng Steel Co., Ltd | 29.14
| China Steel Corporation/Yieh Loong | 29.14
| All Others | 20.28
Thailand | Sahaviriya Steel Industries Public Co., Ltd | 7.35
| Siam Strip Mill Public Co., Ltd | 20.30
| All Others | 4.41
Ukraine | All Others | 90.33

Notification to Interested Parties

This notice also serves as the only reminder to parties subject to an administrative protective order (APO) of their responsibility concerning the return or destruction of proprietary information disclosed under APO in accordance with 19 CFR 351.305. Timely notification of the return or destruction of APO materials or conversion to judicial protective order is hereby requested. Failure to comply with the regulations and terms of an APO is a violation which is subject to sanction.

We are issuing and publishing the final results of these reviews in accordance with sections 751(c), 752(c), and 777(i)(1) of the Act.

Dated: March 5, 2013.
Paul Piquado,
Assistant Secretary for Import Administration.

[FR Doc. 2013-05647 Filed 3-11-13; 8:45 am]

BILLING CODE 3510-DS-P